ENVIRONMENTAL PROTECTION AGENCY

40 CFR Parts 52 and 81

[R07-OAR-2004-MO-0003; FRL-7779-9]

Approval and Promulgation of Implementation Plans; State of Missouri; Designation of Areas for Air Quality Planning Purposes, Iron County; Arcadia and Liberty Townships

AGENCY: Environmental Protection Agency (EPA).

ACTION: Direct final rule.

SUMMARY: EPA is announcing the redesignation of the lead nonattainment area in Iron County, Missouri, to attainment of the National Ambient Air Quality Standard (NAAQS) for lead. We are approving the maintenance plan for this area including a settlement agreement which was submitted with the redesignation request. The effect of the SIP approval is to ensure Federal enforceability of the state air program plan and to maintain consistency between the state-adopted plan and the approved SIP. The effect of the redesignation is to recognize that the area has attained the lead NAAQS and to focus future air quality planning efforts on maintenance of the lead NAAQS in the area.

DATES: This direct final rule will be effective August 30, 2004, without further notice, unless EPA receives adverse comment by July 30, 2004. If adverse comment is received, EPA will publish a timely withdrawal of the direct final rule in the Federal Register informing the public that the rule will not take effect.

ADDRESSES: Submit your comments, identified by Regional Material in EDocket (RME) ID Number R07-OAR-2004-MO-0003, by one of the following methods:

1. Federal eRulemaking Portal: http://www.regulations.gov. Follow the on-line instructions for submitting comments.

2. Agency Web site: http://docket.epa.gov/rmepub/. RME, EPA's electronic public docket and comment system, is EPA's preferred method for receiving comments. Once in the system, select “quick search;” then key in the appropriate RME Docket identification number. Follow the on-line instructions for submitting comments.

3. E-mail: hirtz.james@epa.gov.

4. Mail: James Hirtz, Environmental Protection Agency, Air Planning and Development Branch, 901 North 5th Street, Kansas City, Kansas 66101.

5. Hand Delivery or Courier. Deliver your comments to James Hirtz, Environmental Protection Agency, Air Planning and Development Branch, 901 North 5th Street, Kansas City, Kansas 66101.

Instructions: Direct your comments to RME ID No. R07-OAR-2004-MO-0003. EPA's policy is that all comments received will be included in the public docket without change and may be made available online at http://docket.epa.gov/rmepub/, including any personal information provided, unless the comment includes information claimed to be Confidential Business Information (CBI) or other information whose disclosure is restricted by statute. Do not submit information that you consider to be CBI or otherwise protected through RME, regulations.gov, or e-mail. The EPA RME website and the Federal regulations.gov website are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the RME index at http://docket.epa.gov/rmepub/. Although listed in the index, some information is not publicly available, i.e., CBI or other information whose disclosure is restricted by statute. Certain other material, such as copyrighted material, is not placed on the Internet and will be publicly available only in hard copy form. Publicly available docket materials are available either electronically in RME or in hard copy at the Environmental Protection Agency, Air Planning and Development Branch, 901 North 5th Street, Kansas City, Kansas 66101. The Regional Office's official hours of business are Monday through Friday, 8:00 a.m. to 4:30 p.m., excluding Federal holidays. Interested persons wanting to examine these documents should make an appointment with the office at least 24 hours in advance.

FOR FURTHER INFORMATION CONTACT: James Hirtz at (913) 551-7472, or by e-mail at hirtz.james@epa.gov.

SUPPLEMENTARY INFORMATION: Throughout this document whenever “we”, “us”, or “our” is used, we mean EPA. This section provides additional information by addressing the following questions:

What is a SIP?

What is the Federal approval process for a SIP?

What does Federal approval of a state regulation mean to me?

What is being addressed in this document?

Have the requirements for approval of a SIP revision and redesignation to attainment been met?

What action is EPA taking?

What Is a SIP?

Section 110 of the Clean Air Act (CAA or Act) requires states to develop air pollution regulations and control strategies to ensure that state air quality meets the national ambient air quality standards established by EPA. These ambient standards are established under section 109 of the CAA, and they currently address six criteria pollutants. These pollutants are: carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at title 40, part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally-approved SIP is primarily a state responsibility. However, after the regulation is Federally approved, we are authorized to take enforcement action against violators. Citizens are also offered legal recourse to address violations as described in section 304 of the CAA.

What Is Being Addressed in This Document?

We are redesignating the nonattainment area in Iron County, Missouri, bounded by Arcadia and Liberty Townships, to attainment for lead and taking final action to approve the submission for the Doe Run Primary Smelting Facility near Glover, Missouri, as an amendment to the SIP.

The basis for our approval of the rule is described in this document and in more detail in the technical support document (TSD) prepared for this action. The TSD is available at the address identified above.

The purpose of the submittal is to meet the criteria under section 107(d)(3) of the Clean Air Act Amendments (CAAA) for redesignation of the nonattainment area in Iron County to attainment for the lead standard.

The area was designated as nonattainment for lead in January 1992. The nonattainment area includes the portion of Iron County, Missouri, bounded by Arcadia and Liberty Townships. The major source of lead emissions in this nonattainment area is the Doe Run Primary Smelting Facility, near Glover, Missouri.

Primary smelting of lead began at this location in 1968. Currently the facility has ceased production and has been operating on a care and maintenance schedule since December 1, 2003.

Section 107(d)(3) of the CAAA establishes the five requirements to be met before we can designate an area from nonattainment to attainment. These are:

1. The area has attained the NAAQS;

2. The area has a fully approved SIP under section 110(k) of the Act;

3. We have determined that the improvement in air quality is due to permanent and enforceable emissions reductions;

4. We have determined that the maintenance plan for the area has met the requirements of section 175A of the Act and;

5. The state has met all requirements applicable to the area under section 110 and part D.

Attainment of the NAAQS

The state submittal provided ambient air monitor data showing that this area has consistently shown compliance with the NAAQS for lead since the first quarter of 1997. Ambient monitoring for lead has shown compliance with the NAAQS for 28 consecutive calendar quarters. The NAAQS for lead is 1.5 micrograms per cubic meter (1.5 μg/m³), maximum quarterly average. A quarterly average is considered a violation of the standard if it is at least 1.6 μg/m³ when rounded to tenths from the hundredths place when monitored.

EPA guidance provides that, for lead, attainment should be demonstrated by modeling as well as monitoring. Air dispersion modeling using the ISCST Version 3 dated February 4, 2002, was used to evaluate the concentration of lead resulting from operations at the Doe Run Primary Lead Smelting Facility. The maximum concentration predicted by the model was a value of 1.252 μg/m³ which is in compliance with the lead standard. This maximum modeled value was obtained by incorporating the dry depletion option in the ISCST model.

Fully Approved SIP

Missouri submitted part D nonattainment SIPs for the Doe Run Primary Smelting Facility and its predecessor in 1996 and 1998. The SIPs established emission, operational and work practice standards. These requirements included enforceable throughput and emission point limits, identified emission control projects that the facility would have to complete prior to producing primary lead, and established contingency measures to reduce fugitive emissions for the secondary process. The 1996 part D nonattainment SIP became effective on May 5, 1997, and meets the requirements of section 110. A detailed discussion of the SIP revision can be found in the March 5, 1997, Federal Register document (62 FR 9970). The 1998 part D nonattainment SIP became effective on May 16, 2002, and merely reflects a change in ownership of the smelter (67 FR 18497). The SIP for the area has been fully approved under section 110(k) as meeting all applicable requirements of section 110 and part D.

Permanent and Enforceable Emissions Reductions

The permanent and enforceable emission reductions at the Doe Run Primary Smelting Facility include implementation of the part D nonattainment SIP, which includes (1) performance criteria and maintenance of emission control systems, (2) stack testing requirements, (3) process throughput limitations, (4) record keeping requirements, and (5) the installation of reasonably available control technology and reasonably available control measures. These provisions were previously approved in the 1997 EPA action previously cited. They have now been incorporated into a single settlement agreement between Doe Run, the Missouri Department of Natural Resources (MDNR), and the Missouri Air Conservation Commission. EPA is approving the settlement agreement containing the requirements as part of this action.

Since 1996 Doe Run has implemented additional engineering projects to meet the maximum achievable control technology standards for primary lead smelting facilities, 40 CFR part 63 subpart TTT, promulgated in 1999.

Rule 10 CSR 10-6.120, Restriction of Emissions of Lead From Specific Lead Smelter-Refinery Installations, previously approved by EPA, further ensures the permanent and enforceable emission reductions by specifying emissions limits for the facility. These limits have also resulted in improved air quality.

Although as discussed previously, the facility is currently in a non-production mode, attainment had been shown for several years prior to the change in operation in December 2003. Therefore, EPA has determined that the improvement in air quality is due to permanent and enforceable SIP controls.

Fully Approved Maintenance Plan

The maintenance plan submitted as part of the SIP revision provides for maintenance of the relevant NAAQS in the area for at least ten years after the approval of redesignation to attainment.

The maintenance plan for the Doe Run Primary Smelting Facility addresses the monitoring network, the emission inventory, the maintenance demonstration, and verification of continued attainment, as described in more detail in the TSD. The plan also includes contingency measures: (1) Truck wash; (2) Expand in-plant road sprinkler system; (3) Withdraw unloading building air for Sinter Plant make-up air; (4) New stack emission limits for (a) Main Stack—160.1 lbs of lead/24 hours; (b) Ventilation Baghouse Stack—108.9 lbs of lead/24 hours; (c) Blast Furnace Stack—71.5 lbs of lead/24 hours; (5) Modify refinery skims handling in blast furnace area; and (6) Increase efficiency of Sinter Plant ventilation baghouse. The contingency measures are also specified in the settlement agreement which was approved by MDNR and Doe Run.

Eight years after the redesignation, the state has committed to submit a revised maintenance plan demonstrating attainment for ten years following the initial ten-year period.

Part D and Section 110

The state has met these requirements by submitting and implementing the nonattainment plan to bring the area back into attainment. As described previously in this document, EPA has determined that this plan meets all the applicable requirements of section 110 and part D. The reader may refer to the previously cited Federal Register documents approving the SIP for additional information describing how the SIP meets the applicable requirements of section 110 and part D.

Have the Requirements for Approval of a SIP Revision and Redesignation to Attainment Been Met?

The state submittal has met the public notice requirements for SIP submissions in accordance with 40 CFR 51.102. The submittal also satisfied the completeness criteria of 40 CFR part 51, appendix V. In addition, as explained above and in more detail in the TSD which is part of this document, the revision meets the substantive SIP requirements of the CAA, including section 110 and implementing regulations. The state submittal also meets the criteria for redesignation to attainment in section 107(d)(3) of the CAA, as explained above and in the TSD.

What Action Is EPA Taking?

Our review of the material submitted indicates that the state has adopted a maintenance plan meeting the requirements of the CAA. The state submission also meets the requirements for redesignation. We are taking final action to approve the submission for the Doe Run Primary Smelting Facility near Glover, Missouri, as an amendment to the SIP and redesignate the nonattainment area in Iron County, Missouri, to attainment for lead.

We are processing this action as a final action because the state received no adverse comments on the maintenance SIP and redesignation request during its public comment period, and because the area has been attaining the lead standard since 1997 based on monitored data. Therefore, we do not anticipate any adverse comments.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). This rule approves preexisting requirements under state law. In addition, the redesignation is an action which affects the status of a geographic area but does not impose any new requirements on governmental entities or sources. Therefore because it does not impose any additional enforceable duty beyond that required by state law, it does not contain any unfunded mandate or significantly or uniquely affect small governments, as described in the Unfunded Mandates Reform Act of 1995 (Pub. L. 104-4).

This rule and redesignation do not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045 “Protection of Children from Environmental Health Risks and Safety Risks” (62 FR 19885, April 23, 1997), because it is not economically significant.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 30, 2004. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 81

Environmental protection, Air pollution control, Lead, National parks, Wilderness area.

Dated: June 21, 2004.
James B. Gulliford,
Regional Administrator, Region 7.

Chapter I, title 40 of the Code of Federal Regulations is amended as follows:

PART 52—[AMENDED]

1. The authority citation for part 52 continues to read as follows:

Authority: 42 U.S.C. 7401 et seq.

Subpart AA—Missouri

2. Section 52.1320 is amended by adding in paragraphs (d) and (e), an entry at the end of each table to read as follows:

§ 52.1320 Identification of Plan.

* * * * *

(d) * * *

EPA-Approved State Source-Specific Permits and Orders
Name of source | Order/permit No. | State effective date | EPA approval date | Explanation
* * * * * * *
Doe Run Lead Smelter, Glover, MO | Settlement Agreement | 10/31/03 | 6/30/04 [Insert FR page citation] |

(e) * * *

EPA-Approved Missouri Nonregulatory SIP Provisions
Name of nonregulatory SIP provision | Applicable geographic or nonattainment area | State submittal date | EPA approval date | Explanation
* * * * * * *
Lead Maintenance Plan | Iron County (part) within boundaries of Liberty and Arcadia Townships | 1/26/04 | 6/30/04 [Insert FR page citation] |

PART 81—[AMENDED]

3. The authority citation for part 81 continues to read as follows:

Authority: 42 U.S.C. 7401 et seq.

4. In § 81.326 the table entitled “Missouri-Lead” is amended by revising the entry for “Iron County (part) Within boundaries of Liberty and Arcadia Townships” to read as follows:

§ 81.326 Missouri.

* * * * *

Missouri— Lead
Designated area | Designation: Date | Designation: Type | Classification: Date | Classification: Type
* * * * * * *
Iron County (part) Within boundaries of Liberty and Arcadia Townships | 6/30/04 | Attainment |  |
* * * * * * *

* * * * *

[FR Doc. 04-14701 Filed 6-29-04; 8:45 am]

BILLING CODE 6560-50-P